SECURITIES AND EXCHANGE COMMISSION

[Release No. 34-68246; File No. SR-CBOE-2012-068]

Self-Regulatory Organizations; Chicago Board Options Exchange, Incorporated; Notice of Withdrawal of a Proposed Rule Change To Amend the Customer Large Trade Discount

November 15, 2012.

On July 11, 2012, Chicago Board Options Exchange, Incorporated (“CBOE”) filed with the Securities and Exchange Commission (the “Commission”), pursuant to Section 19(b)(1) of the Securities Exchange Act of 1934 (“Exchange Act”) ¹ and Rule 19b-4 thereunder,² a proposed rule change relating to the Customer Large Trade Discount. Notice of the proposed rule change was published in the Federal Register on July 26, 2012.³ On September 6, 2012, the Commission temporarily suspended the proposed rule change and instituted proceedings to determine whether to approve or disapprove the proposal.⁴ The Commission received no comment letters on the proposed rule change. On November 14, 2012, CBOE withdrew the proposed rule change (SR-CBOE-2012-068).

¹ 15 U.S.C. 78s(b)(1).

² 17 CFR 240.19b-4.

³ See Securities Exchange Act Release No. 67481 (July 20, 2012), 77 FR 43879 (July 26, 2012).

⁴ See Securities Exchange Act Release No. 67794 (September 6, 2012), 77 FR 56247 (September 12, 2012).

For the Commission, by the Division of Trading and Markets, pursuant to delegated authority.⁵
⁵ 17 CFR 200.30-3(a)(12).
Kevin M. O'Neill,
Deputy Secretary.

[FR Doc. 2012-28264 Filed 11-20-12; 8:45 am]

BILLING CODE 8011-01-P